NATIONAL SCIENCE FOUNDATION

Special Emphasis Panel for Geosciences; Notice of Meeting

In accordance with the Federal Advisory Committee Act (Pub. L. 92-463, as amended), the National Science Foundation announces the following meeting:

Name: Special Emphasis Panel for Geosciences (1756)

Date/Time: May 2, 2000; 8:30 a.m. to 5:30 p.m.

Place: Room 770, National Science Foundation, 4201 Wilson Boulevard, Arlington, VA 22230

Type of Meeting: Closed

Contact Person: Ms. Robin Reichlin, Program Director, Geophysics Program, Division of Earth Sciences, Room 785, National Science Foundation, Arlington, VA 22230, (703) 306-1556.

Purpose of Meeting: To provide advice and recommendations concerning proposals submitted to NSF for financial support.

Agenda: To review and evaluate cooperative studies of the earth's deep interior proposals as part of the selection process for awards.

Reason for Closing: The proposals being reviewed include information of a proprietary or confidential nature, including technical information; financial data, such as salaries; and personal information concerning individuals associated with proposals. These matters are exempt under 5 U.S.C. 552b(c), (4) and (6) of the Government in the Sunshine Act.

Dated: April 6, 2000.
Karen J. York,
Committee Management Officer.

[FR Doc. 00-9196 Filed 4-12-00; 8:45 am]

BILLING CODE 7555-01-M